DEPARTMENT OF HOUSING AND URBAN DEVELOPMENT

[Docket No. FR-7034-N-23]

30-Day Notice of Proposed Information Collection: The Outcomes Evaluation of the Choice Neighborhoods Program; OMB Control No. 2528-New

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: May 26, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A. The Federal Register notice that solicited public comment on the information collection for a period of 60 days was published on June 1, 2020 at 85 FR 33189.

A. Overview of Information Collection

Title of Information Collection: The Outcomes Evaluation of the Choice Neighborhoods Program.

OMB Approval Number: 2528-New.

Type of Request: New collection.

Form Number: NA.

Description of the need for the information and proposed use:

This request is for the collection of information for an outcomes evaluation of the Choice Neighborhoods Program (Choice). Choice leverages significant public and private dollars to support locally driven strategies that address struggling neighborhoods with distressed public or HUD-assisted housing through a comprehensive approach to neighborhood transformation; local leaders, residents, and stakeholders come together to create and implement a plan that revitalizes distressed HUD housing and addresses the challenges in the surrounding neighborhood.

Launched in 2010, Choice provides direct investments through competitive grants targeted to neighborhoods marked by high rates of poverty with distressed public or HUD-assisted housing. Today, Choice remains one of HUD's primary tools to support planning and implementation efforts to catalyze redevelopment efforts in cities across the nation.

Under contract with HUD's Office of Policy Development and Research, the Urban Institute (Urban) is conducting an evaluation of Choice, focusing on the neighborhoods that received grants in 2011 and 2013: Quincy Corridor neighborhood in Boston, Massachusetts; Woodlawn neighborhood in Chicago, Illinois; Iberville/Tremé neighborhood in New Orleans, Louisiana; Eastern Bayview neighborhood in San Francisco, California; Yesler neighborhood in Seattle, Washington; Near East Side neighborhood in Columbus, Ohio; South Norwalk neighborhood in Norwalk, Connecticut; North Central Philadelphia neighborhood in Philadelphia, Pennsylvania; and Larimer/East Liberty neighborhood in Pittsburgh, Pennsylvania. The overarching goal of the current evaluation is to understand the impact of the Choice program and the investment it brings, with an emphasis on understanding the first cohort of grantees, funded in 2011 and four additional grantees from the third cohort of grantees, funded in 2013.

The evaluation will use qualitative and quantitative methods to answer the following overarching research question: Whether public and private dollars were successfully leveraged to (1) replace distressed public and assisted housing with high-quality mixed-income housing that is well-managed and responsive to the needs of the surrounding neighborhood, (2) improve outcomes for households in the target housing, including employment and income, health, and education, and (3) create the conditions necessary for public and private reinvestment in distressed neighborhoods to improve amenities and assets. The evaluation is a follow-up to an initial evaluation completed by Urban in 2016, and will employ analysis of administrative/secondary data, including HUD data, as well as primary data collection in the form of a large household survey of households living in the Choice sites, and interviews and observations from stakeholders regarding the Choice program. In total, Urban expects to field the survey to up to 2,388 Choice residents and contact 275 respondents for qualitative interviews. This information is necessary to evaluate Choice and to understand differences across sites, over time, in different types of HUD-assisted housing, by grantee type, and for different contextual conditions.

Respondents: Residents who are living in Choice Neighborhoods (Choice) sites in the Quincy Corridor neighborhood in Boston, Massachusetts; Woodlawn neighborhood in Chicago, Illinois; Iberville/Tremé neighborhood in New Orleans, Louisiana; Eastern Bayview neighborhood in San Francisco, California; Yesler neighborhood in Seattle, Washington; Near East Side neighborhood in Columbus, Ohio; South Norwalk neighborhood in Norwalk, Connecticut; North Central Philadelphia neighborhood in Philadelphia, Pennsylvania; and Larimer/East Liberty neighborhood in Pittsburgh, Pennsylvania, as well as stakeholders who were, or remain, engaged with the Choice program. Stakeholders include the lead grantee, implementation leads for housing, people, and neighborhood pillars, HUD managers of Choice grants, city agency officials and staff, public housing and affordable-housing property management staff, housing developers, early education providers, case management providers, other service providers, community and resident leaders, local police precinct commanders, and staff from local anchor institutions.

Information collection | Number of respondents | Frequency of response | Responses per annum | Burden hour per response | Annual burden hours | Hourly cost per response | Cost
Household survey | 2,388 | 1 | 2,388 | .58 | 1,385.04 | $17.00 | $23,545.68
Interviews with resident leaders | 5 | 1 | 5 | 1.5 | 7.5 | 17.00 | 127.50
Interviews with High-level informants: Lead grantees, City officials and staff | 45 | 1 | 45 | 1.5 | 67.5 | 42.30 | 2,855.25
Interviews with HUD staff | 18 | 1 | 18 | 1.5 | 27 | 75.82 | 2,047.14
Interviews with housing informants: Housing implementation lead, Housing developers, Public housing and affordable-housing property management staff | 54 | 1 | 54 | 1.5 | 81 | 35.39 | 2,866.59
Interviews with people informants: People implementation lead, Case management staff, Other service providers | 63 | 1 | 1 | 1.5 | 94.5 | 23.92 | 2,260.44
Interviews with education informants: Education implementation lead, education implementation staff | 27 | 1 | 1 | 1.5 | 40.5 | 23.92 | 968.76
Interviews with Neighborhood informants: Implementation lead, Local police precinct commanders, Local anchor institution staff, Community leaders | 63 | 1 | 1 | 1.5 | 94.5 | 35.52 | 3,356.64
Total | 2,663 |  |  |  | 1,797.54 |  | 38,028.00

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Anna P. Guido,
Department Reports Management Officer, Office of the Chief Information Officer.

[FR Doc. 2021-08634 Filed 4-23-21; 8:45 am]

BILLING CODE 4210-67-P